DEPARTMENT OF COMMERCE

National Oceanic and Atmospheric Administration

RIN 0648-XC678

North Pacific Fishery Management Council; Public Meetings

AGENCY: National Marine Fisheries Service (NMFS), National Oceanic and Atmospheric Administration (NOAA), Commerce.

ACTION: Notice of public meetings.

SUMMARY: The North Pacific Fishery Management Council's (Council) Observer Advisory Committee (OAC) will meet in Juneau, AK.

DATES: The meetings will be held on June 3, 2013, from 8 a.m. to 5 p.m., and June 4, 2013, from 8 a.m. to 12 p.m.

ADDRESSES: The meetings will be held at NMFS, Federal Building, 709 W 9th Street, 4th Floor, Regional Conference Room, Juneau, AK.

Council address: North Pacific Fishery Management Council, 605 W. 4th Ave., Suite 306, Anchorage, AK 99501-2252.

FOR FURTHER INFORMATION CONTACT: Chris Oliver, Council staff; telephone: (907) 271-2809.

SUPPLEMENTARY INFORMATION: The agenda items include: Receive the report on the 2013 performance evaluation; review the electronic monitoring strategic plan; review regulatory amendment proposals already submitted for consideration, and develop recommended criteria for Council consideration.

The Agenda is subject to change, and the latest version will be posted at http://www.alaskafisheries.noaa.gov/npfmc/.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: May 7, 2013.
Tracey L. Thompson,
Acting Deputy Director, Office of Sustainable Fisheries, National Marine Fisheries Service.

[FR Doc. 2013-11150 Filed 5-9-13; 8:45 am]

BILLING CODE 3510-22-P